DEPARTMENT OF THE INTERIOR

National Park Service

Notice of Inventory Completion: Western Michigan University, Anthropology Department, Kalamazoo, MI

AGENCY: National Park Service, Interior.

ACTION: Notice.

Notice is here given in accordance with the Native American Graves Protection and Repatriation Act (NAGPRA), 25 U.S.C. 3003, of the completion of an inventory of human remains and associated funerary objects in the possession of Western Michigan University, Anthropology Department, Kalamazoo, MI. The human remains and associated funerary objects were removed from Mackinac County, MI.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

A detailed assessment of the human remains was made by Western Michigan University professional staff in consultation with representatives of the Little Traverse Bay Bands of Odawa Indians, Michigan, and the Sault Ste. Marie Tribe of Chippewa Indians of Michigan.

In 1973, human remains representing a minimum of eight individuals were removed from the Gyftakis site (20MK51), St. Ignace, Moran Township, Mackinac County, MI, during an archeological excavation directed by Dr. James Fitting. The human remains were transferred to Western Michigan University for curation and further analysis. The 20 associated funerary objects are 8 black bear scapula and fragments, 1 black bear atlas, 1 black bear proximal femur head, 1 large bird long bone shaft, 1 possible black bear phalanx, 1 possible crane carpometacarpus, 1 raptor carpometacarpus, 1 possible small bird long bone, 1 unidentified non-human cranium fragment, 2 bird or small mammal long bones and 2 probable bird phalanxes.

In 1972, Middle Woodland period ceramic sherds were found during test excavations for the St. Ignace Archaeological Survey Project, which prompted the archeological survey. The burials were found to be in good condition. Dr. Robert Sundick, a physical anthropologist in the Anthropology Department at Western Michigan University, studied the remains. Native American ancestry was determined based on the temporal association of the Gyftakis Site to the Middle Woodland period (A.D. 170), radiocarbon dating of a sample from an associated hearth and AMS date of ceramic pot residue. Additionally, seriation of the pottery and lithic tools discovered at the Gyftakis Site, but which are not associated funerary objects, are indicative of the Middle Woodland period and are clearly of pre-Contact/European manufacturing.

According to oral tradition, the Little Traverse Bay Bands of Odawa Indians have occupied the St. Ignace area for numerous generations preceding European arrival into the Great Lakes. The archeological evidence of pre-historic Native American occupation of the Gyftakis site supports the Odawa oral histories. In 1615, the French were the first Europeans to record the Odawa in the Great Lakes. Since this first encounter in the early 17th century to the present-day, the Odawa have a long, documented history at St. Ignace and the surrounding Mackinac region.

Officials of Western Michigan University have determined, pursuant to 25 U.S.C. 3001(9), the human remains described above represent the physical remains of eight individuals of Native American ancestry. Officials of Western Michigan University also have determined, pursuant to 25 U.S.C. 3001(3)(A), the 20 objects described above are reasonably believed to have been placed with or near individual human remains at the time of death or later as part of the death rite or ceremony. Lastly, officials of Western Michigan University have determined, pursuant to 25 U.S.C. 3001(2), there is a relationship of shared group identity that can be reasonably traced between the Native American human remains and associated funerary objects and the Little Traverse Bay Bands of Odawa Indians, Michigan.

Representatives of any other Indian Tribe that believes itself to be culturally affiliated with the human remains and associated funerary objects should contact LouAnn Wurst, Department of Anthropology, Western Michigan University, 1005 Moore Hall, Kalamazoo, MI 49008, telephone (269) 387-2753, before December 6, 2010. Repatriation of the human remains and associated funerary objects to the Little Traverse Bay Bands of Odawa Indians, Michigan, may proceed after that date if no additional claimants come forward.

Western Michigan University is responsible for notifying the Little Traverse Bay Bands of Odawa Indians, Michigan, and the Sault Ste. Marie Tribe of Chippewa Indians of Michigan, that this notice has been published.

Dated: October 29, 2010.
Sherry Hutt,
Manager, National NAGPRA Program.

[FR Doc. 2010-27916 Filed 11-3-10; 8:45 am]

BILLING CODE 4312-50-P